ENVIRONMENTAL PROTECTION AGENCY

[FRL—9901-99-Region2]

Proposed CERCLA Settlements Relating to the Truckers Warehouse Site in Passaic, Passaic County, New Jersey

AGENCY: Environmental Protection Agency (EPA).

ACTION: Notice of proposed administrative settlements and opportunity for public comment.

SUMMARY: In accordance with Section 122(i) of the Comprehensive Environmental Response, Compensation, and Liability Act of 1980, as amended (“CERCLA”), notice is hereby given by the U.S. Environmental Protection Agency (“EPA”), Region 2, of three proposed Administrative Settlement Agreements for Recovery of Past Response Costs (“Agreements”) pursuant to Section 122(h)(1) of CERCLA, with (1) RJS Corp.; (2) Your Factory Warehouse, Inc., Douglas Marino and Mark Marino; and (3) A&S Corporation and Marie Andre (“Settling Parties”). The Settling Parties are potentially responsible parties, pursuant to Section 107(a) of CERCLA, and thus are potentially liable for response costs incurred at or in connection with the Truckers Warehouse Site (“Site”), located in Passaic, Passaic County, New Jersey. Under the Agreements, the Settling Parties agree to pay a total of $108,748.20 to EPA for past response costs. EPA will consider all comments received and may modify or withdraw its consent to the Agreements if comments received disclose facts or considerations that indicate that the proposed Agreements are inappropriate, improper, or inadequate. EPA's response to any comments received will be available for public inspection at EPA Region 2 offices, 290 Broadway, New York, New York 10007-1866.

DATES: Comments must be provided by November 25, 2013.

ADDRESSES: The Agreements are available for public inspection at EPA Region 2 offices at 290 Broadway, New York, New York 10007-1866. Comments should reference the Truckers Warehouse Site, located in Passaic, Passaic County, New Jersey, Index Nos. CERCLA-02-2013-2019, 02-2013-2028 and 02-2013-2029. To request a copy of the Agreements, please contact the EPA employee identified below.

FOR FURTHER INFORMATION CONTACT: Gerard Burke, Assistant Regional Counsel, New Jersey Superfund Branch, Office of Regional Counsel, U.S. Environmental Protection Agency, 290 Broadway—17th Floor, New York, New York 10007-1866. Telephone: 212-637-3120, email at burke.gerard@epa.gov.

Dated: September 24, 2013.
Walter E. Mugdan,
Director, Emergency and Remedial Response Division.

[FR Doc. 2013-25264 Filed 10-24-13; 8:45 am]

BILLING CODE 6560-50-P